DEPARTMENT OF ENERGY

Federal Energy Regulatory Commission

[Docket No. RP01-246-005]

Natural Gas Pipeline Company of America; Notice of Filing Rate Schedule LPS Activity Report

May 23, 2002.

Take notice that on May 15, 2002, Natural Gas Pipeline Company of America (Natural) tendered for filing its Activity Report for Rate Schedule LPS.

Natural states that the purpose of this filing is to comply with the Commission's February 1, 2002 order which required Natural to file a report on its Rate Schedule LPS activity forty-five (45) days after its first year of operation.

Any person desiring to protest said filing should file a protest with the Federal Energy Regulatory Commission, 888 First Street, NE., Washington, DC 20426, in accordance with Section 385.211 of the Commission's Rules and Regulations. All such protests must be filed on or before May 30, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13503 Filed 5-29-02; 8:45 am]

BILLING CODE 6717-01-P